DEPARTMENT OF ENERGY

Federal Energy Regulatory Commission

[Docket No. RP06-303-000]

Stingray Pipeline Company, L.L.C.; Notice of Proposed Changes in FERC Gas Tariff

April 18, 2006.

Take notice that on April 10, 2006, Stingray Pipeline Company, L.L.C. (Stingray) tendered for filing as part of its FERC Gas Tariff, Third Revised Volume No. 1, the following tariff sheets to become effective May 10, 2006:

Ninth Revised Sheet No. 2

Fifth Revised Sheet No. 301

Original Sheet No. 301A

Third Revised Sheet No. 302

First Revised Sheet No. 302A

First Revised Sheet No. 302B

Original Sheet No. 302C

First Revised Sheet No. 304

Second Revised Sheet No. 305

First Revised Sheet No. 305A

First Revised Sheet No. 305B

Original Sheet No. 305C

Second Revised Sheet No. 314

Second Revised Sheet No. 316

First Revised Sheet No. 317

Original Sheet No. 318

Original Sheet No. 319

Original Sheet No. 320

Original Sheet No. 321

Original Sheet No. 322

Original Sheet No. 323

Original Sheet No. 324

Original Sheet No. 325

Original Sheet No. 326

Original Sheet No. 327

Original Sheet No. 328

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-6170 Filed 4-24-06; 8:45 am]

BILLING CODE 6717-01-P